DEPARTMENT OF LABOR

Employment And Training Administration

Proposed Information Collection Request Submitted for Public Comment; O*NET® Data Collection Program

ACTION: Notice.

SUMMARY: The Department of Labor, as part of its continuing effort to reduce paperwork and respondent burden, conducts a preclearance consultation program to provide the general public and Federal agencies with an opportunity to comment on proposed and/or continuing collections of information in accordance with the Paperwork Reduction Act of 1995 (PRA95), 44 U.S.C. 3506(c)(2)(A). This program helps to ensure that requested data can be provided in the desired format, reporting burden (time and financial resources) is minimized, collection instruments are clearly understood, and the impact of collection requirements on respondents can be properly assessed. Currently, the Employment and Training Administration is soliciting comments concerning the proposed extension collection of the O*NET® (Occupational Information Network) Data Collection Program. A copy of the proposed information collection request (ICR) can be obtained by contacting the office listed below in the addressee section of this notice or can be downloaded from the Internet at: http://www.onetcenter.org/ombclearance.html.

DATES: Written comments must be submitted to the office listed in the addressee section below on or before August 2, 2005.

ADDRESSES: Send comments regarding the O*NET Data Collection Program to Pam Frugoli, Skill Assessment Team Lead, Office of Workforce Investment, Employment and Training Administration, U.S. Department of Labor, 200 Constitution Avenue, NW., Room S-4231, Washington, DC 20210. The telephone number is 202-693-3643. (this is not a toll-free number). Comments may also be submitted via e-mail to: O-NET@dol.gov.

SUPPLEMENTARY INFORMATION:

I. Background

The O*NET Data Collection Program is a continuing effort to collect and maintain current information on detailed characteristics of occupations and skills for over 800 occupations. The resulting database is and will continue to be the most comprehensive standard source of occupational and skills information in the nation. O*NET information is used by a wide range of audiences, from individuals making career decisions, to public agencies and schools providing career exploration services and planning workforce investment programs, to businesses making staffing and training decisions. The O*NET system provides a common language, framework and database to meet the administrative needs of various federal programs, including workforce investment and training programs of the Departments of Labor, Education, and Health and Human Services.

Section 309 of the Workforce Investment Act requires the Secretary of Labor to oversee the “development, maintenance, and continuous improvement of a nationwide employment statistics system” which shall include, among other components, “skill trends by occupation and industry.” The States are to develop similar statewide employment statistics systems.

The O*NET Data Collection Program is the primary vehicle for collecting skills and occupational information across all occupations nationwide. The continued population and completion of the entire O*NET database is a critical component of the nationwide labor market information system to support employer, workforce, and education information needs.

O*NET succeeds the Dictionary of Occupational Titles (DOT) and is a powerful tool for various critical federal and state workforce investment functions. O*NET integrates a powerful relational database and a common language for occupational and skill descriptions into a value-added tool for business, job seekers, and the workforce investment professionals who help bring them together. By providing information organized according to the O*NET Content Model, the O*NET database is an important tool for keeping up with today's rapidly changing world of work. The O*NET database provides:

• Detailed information for more than 800 occupations.

• Descriptive information on standardized descriptors of skills, abilities, interests, knowledge, work values, education, training, work context, and work activities.

• Occupational coding based on the 2000 Standard Occupational Classification (SOC).

The O*NET electronic database serves as the underpinning for hundreds of publicly and privately developed products and resources in the marketplace and can be found at http://online.onetcenter.org. These products and resources are being used to serve millions of customers.

II. Review Focus

The Department of Labor is particularly interested in comments which:

• evaluate whether the proposed information collection is necessary for the proper performance of the functions of the agency, including whether the information will have practical utility;

• evaluate the accuracy of the agency's estimate of the burden of the proposed collection of information, including the validity of the methodology and assumptions used;

• enhance the quality, utility, and clarity of the information to be collected; and

• minimize the burden of the collection of information on those who are to respond, including through the use of appropriate automated, electronic, mechanical, or other technological collection techniques or other forms of information technology, e.g., permitting electronic submissions of responses.

III. Current Actions

The O*NET Data Collection Program established the foundation for occupational and skills data collection using collection methods designed to obtain high quality and current data. The DOL is seeking Office of Management and Budget approval for a three-year continuation to complete the population of the O*NET database with data from workers and some subject matter experts sampled in this survey. This request for extension will provide for the completion of the data collection for the remaining occupations currently on schedule for collection during the extension period, new data for high growth/high priority occupations for which data were previously collected, and for data collection activities needed for approximately 35 new and emerging occupations.

Customers using O*NET are expanding quickly as more private and public developers integrate O*NET information into their products. Use of O*NET data and products continue to increase as shown through increases in product downloads and site visits. The consequence of not continuing the O*NET Data Collection Program limits the occupational information options of American citizens and businesses. The millions of users who utilize O*NET information to make important life, business, and policy decisions will have to make these decisions using information that is not current, is incomplete, and is of questionable validity and reliability. Users will not have the benefit of practical results from the publicly funded research that has led to the O*NET system. Updating the O*NET database is crucial to providing business, job seekers, students, educators, and counselors with the most up-to-date information about occupations and occupational requirements. Furthermore, with on-going data collection, the O*NET Data Collection Program is capable of capturing information on important emerging technologies needed to ensure that United States stays competitive in the global market place.

Currently, the O*NET Data Collection Program has published data for over 280 occupations and will complete the data collection effort for the remaining occupations and emerging occupations by 2008. The database is updated twice annually. The next update with approximately 100 new occupations will be in the summer of 2005. The O*NET occupations either match to, or represent more detailed breakouts of, occupations from the 2000 Standard Occupational Classification.

A multiple-method collection approach for populating the O*NET database has been developed to ensure the completion of all occupations. There are three different data collection methodologies or protocols: the Establishment data collection method, the Association method and the Occupation Expert (OE) method. The primary data collection method used to update the O*NET database is the Establishment data collection method; a survey of establishments and workers within those establishments. The Establishment data collection method uses a two-stage design that includes a statistical sample of establishments expected to employ workers in each specific occupation and a sample of workers in the occupations within each sampled establishment. The sampled workers are asked to complete the survey questionnaires. Four domain questionnaires are used to collect data from sampled workers: (1) Skills, (2) Generalized Work Activities, which are general types of job behaviors occurring on multiple jobs, (3) Work Context, the physical and social factors that influence the nature of work, and (4) Knowledge, which includes Education and Training and Work Styles. (Copies of these questionnaires are also available from the following Internet site: http://www.onetcenter.org/ombclearance.html). Workers are only asked to complete one of the survey questionnaires. Workers are also asked to provide basic demographic information and to complete a brief task inventory for their specific occupations. At the end of September 2004, the Establishment data collection method experienced a 70% participation response rate for establishments and a 64% participation response rate for employees.

Data for a fifth domain, Abilities, are provided by trained analysts.

The name of incumbent respondents is not requested on the survey form and all individual responses will be maintained in strict confidentiality. The data from job incumbents and others will be used to develop mean ratings on the various items.

In addition to the Establishment data collection method, two alternative data collection methods, the Occupation Expert (OE) method and the Association method, are utilized for selected occupations. Typically these methods are used for occupations with small employment size, for occupations in which employees work in remote locations, for occupations for which no employment data exists from which to sample, and emerging occupations. In the OE method, occupation experts are identified and asked to complete the four domain questionnaires, the demographic items, and the task inventory for the specific occupation being surveyed. In the Association method, incumbents are sampled from member rosters of professional associations that include a significant portion of the occupation's workers in their membership.

The resulting data from all three methods are subjected to extensive analysis and are made available to the public through scheduled updates to the O*NET database. Please see the Web site at http://online.onetcenter.org for additional information.

The projected average annual burden for the subsequent three years is less than the FY2003-2005 annual averages. In addition, the distribution of burden for establishments and employees is different. The establishment burden is expected to decrease and the employee burden is expected to increase in the subsequent three years. Past experience has shown that fewer participating establishments are required than previously projected and that more employees in participating establishments are needed. In addition, data will be collected for fewer occupations than in the previous year's OMB submission as many of the occupations yet to be populated are already in the data collection process.

Type of Review: Extension.

Agency: Employment and Training Administration.

Title: O*NET Data Collection Program.

OMB Number: 1205-0421.

Affected Public: Business/Employers (includes private and not-for-profit businesses and government); individuals (incumbent workers, subject matter experts).

Total Respondents: 92,373 (FY06).

Frequency of Response: Annual.

Total Responses: 92,373 (FY06).

Average Time Per Response: Employer response time is 70 minutes. Incumbent workers response time is 30 minutes. Subject matter expert response time is 2 hours.

Estimated Total Annual Burden Hours: 28,959 hours.

Total Burden Cost (capital/startup): $0.

Total Burden Cost (operating/maintenance): $0.

Comments submitted in response to this comment request will be summarized and/or included in the request for Office of Management and Budget approval of the information collection request; they will also become a matter of public record.

Signed at Washington, DC, this 27th day of May, 2005.
Emily Stover DeRocco,
Assistant Secretary, Employment and Training Administration.

[FR Doc. E5-2851 Filed 6-2-05; 8:45 am]

BILLING CODE 4510-30-P